DEPARTMENT OF COMMERCE

National Oceanic and Atmospheric Administration

50 CFR Part 229

[I.D. 060806B]

Taking of Marine Mammals Incidental to Commercial Fishing Operations; Atlantic Pelagic Longline Take Reduction Plan

AGENCY: National Marine Fisheries Service (NMFS), National Oceanic and Atmospheric Administration (NOAA), Commerce.

ACTION: Notice of public meeting.

SUMMARY: NMFS is announcing a public meeting to provide information about the draft Atlantic Pelagic Longline Take Reduction Plan (PLTRP) and potential research and monitoring activities that may be initiated this summer in the Mid-Atlantic Bight involving the pelagic longline fishery.

DATES: The meeting will convene at 1 p.m. on Thursday, June 22, 2006, and will run until approximately 5 p.m.

ADDRESSES: The meeting will be held at Willie R. Etheridge Seafoods, 4561 Mill Landing Road, Wanchese, NC 27981.

FOR FURTHER INFORMATION CONTACT: Vicki Cornish, NMFS, Southeast Region, 727-824-5312, Vicki.Cornish@noaa.gov. Individuals who use telecommunications devices for the deaf (TDD) may call the Federal Information Relay Service at 1-800-877-8339 between 8 a.m. and 4 p.m. eastern time, Monday through Friday, excluding Federal holidays.

SUPPLEMENTARY INFORMATION: NMFS established the Atlantic Pelagic Longline Take Reduction Team in June 2005 to address incidental serious injuries and mortalities of short- and long-finned pilot whales (Globicephala macrorhynchus and Globicephala melas) in the Atlantic pelagic longline fishery, as required by the Marine Mammal Protection Act. The team met several times and developed a draft PLTRP for submittal to NMFS. The draft PLTRP contains proposed management measures to reduce serious injuries and mortalities of both pilot whales and Risso's dolphins (Grampus griseus) in the Mid-Atlantic Bight, as well as recommendations for research and data collection. The meeting will provide an opportunity for NMFS staff to meet with fishermen and discuss the draft PLTRP and potential research and monitoring efforts that may be initiated this summer, answer questions, and identify pelagic longline fishermen who may be willing to voluntarily participate in research activities.

Dated: June 8, 2006.
Donna Wieting,
Deputy Director, Office of Protected Resources, National Marine Fisheries Service.

[FR Doc. E6-9311 Filed 6-13-06; 8:45 am]

BILLING CODE 3510-22-S